DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the Annual Refiling Survey (ARS) forms. A copy of the proposed information collection request (ICR) can be obtained by contacting the individual listed below in the addressee section of this notice.

DATES: Written comments must be submitted to the office listed in the addressee section below on or before July 18, 2000.

ADDRESSES: Send comments to Sytrina D. Toon, BLS Clearance Officer, Division of Management Systems, Bureau of Labor Statistics, Room 3255, 2 Massachusetts Avenue, N.E., Washington, D.C. 20212, telephone number 202-691-7628 (this is not a toll free number).

FOR FURTHER INFORMATION CONTACT: Sytrina D. Toon, BLS Clearance Officer, telephone number 202-691-7628. (See ADDRESSES section.)

SUPPLEMENTARY INFORMATION:

I. Background

The Standard Industrial Classification (SIC) system was replaced by the North American Industry Classification System (NAICS) in 1997 as the standard for industrial classification. As a result of this change, the Bureau of Labor Statistics (BLS) converted its data from an SIC-basis to a NAICS-basis over a three-year period. This included converting SIC codes for business establishments on the Bureau's sampling frame to 1997 NAICS codes. Forms were designed to gather information necessary for converting SIC codes to NAICS codes from respondents. A revision of NAICS to be implemented in 2002 will affect industries in mining, construction, manufacturing, wholesale trade, retail trade, and Internet services. These previously approved ARS forms will be used to convert SIC codes to the new 2002 NAICS codes.

II. Desired Focus of Comments

The Bureau of Labor Statistics is particularly interested in comments which:

• Evaluate whether the proposed collection of information is necessary for the proper performance of the functions of the agency, including whether the information will have practical utility;

• Evaluate the accuracy of agency's estimate of the burden of the proposed collection of information, including the validity of the methodology and assumptions used;

• Enhance the quality, utility, and clarity of the information to be collected; and

• Minimize the burden of the collection of information on those who are to respond, including through the use of appropriate automated, electronic, mechanical, or other technical collection techniques or other forms of information technology, e.g., permitting electronic submissions of responses.

III. Current Action

The forms are the Annual Refiling Survey (ARS) forms that the BLS currently uses to gather industrial and geographical data on business establishments. They are specifically designed to gather information necessary to convert SIC codes to NAICS codes. This is a revision of the previously approved ARS forms to implement the NAICS 2002 revision.

Type of Review: Revision of a currently approved collection.

Agency: Bureau of Labor Statistics.

Title: Annual Refiling Survey.

OMB Number: 1220-0032.

Affected Public: Individuals or households; business or other for-profit; not-for-profit institutions; farms; Federal government; State, local, or tribal government.

Total Respondents: 1,700,150.

Frequency: Annually.

Total Responses: 1,700,150.

Form | Total responses | Frequency | Total responses | Average time per response (hours) | Estimated total burden (hours)
3023-NVS | 1,573,500 | Once | 1,573,500 | .083 | 130,601
3023-NVM | 15,650 | Once | 15,650 | .75 | 11,738
3023-NCA | 111,000 | Once | 111,000 | .167 | 18,537
3023-NAX |  | Once |  | .083 |
Totals | 1,700,150 |  | 1,700,150 |  | 160,870

The BLS is not expected to use the 3023-NAX form in the NAICS 2002 conversion, but its approval also is requested.

Total Burden Cost (capital/startup): 0.

Total Burden Cost (operating/maintenance): 0.

Comments submitted in response to this noticed will be summarized and/or included in the request for Office of Management and Budget approval of the information collection request; they also will become a matter of public record.

Signed at Washington, DC, this 12th day of May 2000.
Karen A. Krein,
Acting Chief, Division of Management Systems, Bureau of Labor Statistics.

[FR Doc. 00-12667 Filed 5-18-00; 8:45 am]

BILLING CODE 4510-24-M